DEPARTMENT OF HOMELAND SECURITY

Coast Guard

[Docket No. USCG-2017-0191]

Certificate of Alternate Compliance for the Gladding-Hearn Hulls 418 and 419

AGENCY: Coast Guard, DHS.

ACTION: Notice.

SUMMARY: The Coast Guard announces that a Certificate of Alternate Compliance (COAC) was issued for the GLADDING-HEARN HULLS 418 AND 419. We are issuing this notice because its publication is required by statute.

DATES: The Certificate of Alternate Compliance was issued on March 14, 2017.

FOR FURTHER INFORMATION CONTACT: For information or questions about this notice call or email Mr. Kevin Miller, First District Towing Vessel/Barge Safety Specialist, U.S. Coast Guard; telephone (617) 223-8272, email Kevin.L.Miller2@uscg.mil.

SUPPLEMENTARY INFORMATION: The United States is signatory to the International Maritime Organization's International Regulations for Preventing Collisions at Sea, 1972 (72 COLREGS), as amended. The special construction or purpose of some vessels makes them unable to comply with the light, shape, and sound signal provisions of the 72 COLREGS. Under statutory law ¹ and Coast Guard regulation,² a vessel may instead meet alternative requirements and the vessel's owner, builder, operator, or agent may apply for a COAC. For vessels of special construction, the cognizant Coast Guard District Office determines whether the vessel for which the COAC is sought complies as closely as possible with the 72 COLREGS, and decides whether to issue the COAC. Once issued, a COAC remains valid until information supplied in the COAC application or the COAC terms become inapplicable to the vessel. Under the governing statute ³ and regulation,⁴ the Coast Guard must publish notice of this action.

¹ 33 U.S.C. 1605(c)

² 33 CFR. 81.3

³ 33 U.S.C. 1605(c)

⁴ 33 CFR 81.18

The Coast Guard encourages the use of two masthead lights on power-driven vessels less than 50 meters in length in accordance with “The Boating Safety Circular” 75, June 1993, page 15. The Commandant, U.S. Coast Guard, certifies that the Gladding-Hearn Hulls 418 and 419 are vessels of special construction or purpose, and that, with respect to the position of the two masthead lights, it is not possible to comply fully with the requirements of the provisions enumerated in the 72 COLREGS, without interfering with the normal operation of the vessel. This certificate authorizes the placement of these vessels' two masthead lights to not meet the minimum horizontal separation requirements specified in Annex I of 72 COLREGS. All other navigational lighting dimensions will remain in compliance with 72 COLREGS, including vertical separation required for masthead lights and sidelights.

This notice is issued under authority of 33 U.S.C. 1605(c) and 33 CFR 81.

Dated: March 14, 2017.
B.L. Black,
Chief, Prevention Department, First District, U.S. Coast Guard.

[FR Doc. 2017-06089 Filed 3-27-17; 8:45 am]

BILLING CODE 9110-04-P